DEPARTMENT OF THE INTERIOR

National Park Service

Final Environmental Impact Statement and South Florida and Caribbean Parks Exotic Plant Management Plan

AGENCY: National Park Service, Interior.

ACTION: Notice of availability of a final environmental impact statement for the South Florida and Caribbean Parks Exotic Plant Management Plan.

SUMMARY: Pursuant to the National Environmental Policy Act of 1969, 42 U.S.C. 4332(2)(C), and the Council on Environmental Quality regulations (40 CFR part 1500-1508), the National Park Service (NPS), Department of the Interior, announces the availability of the final environmental impact statement (FEIS) in abbreviated form for the proposed South Florida and Caribbean Parks Exotic Plant Management Plan. This plan guides the management and control of exotic plants and restoration of native plant communities in nine national parks: Big Cypress National Preserve, Biscayne National Park, Canaveral National Seashore, Dry Tortugas National Park, Everglades National Park, Buck Island Reef National Monument, Christiansted National Historic Site, Salt River Bay National Historic Park and Ecological Preserve, and Virgin Islands National Park. The FEIS identifies and evaluates the proposed plan and two alternatives and their potential environmental consequences and identifies and analyzes appropriate mitigation strategies.

In accordance with the Plant Protection Act of 2000, (7 U.S.C. 7701 et seq.), the United States Government has designated certain plants as noxious weeds; many of these are exotic plant species. Approximately 1,200 exotic plant species in Florida and the Caribbean have become established in natural areas, and as many as 4 percent of those exotic plant species have displaced native species. Exotic plants compete aggressively with native plants and are often at an advantage because they have little or no predatory control. Among other problems, exotic plants displace native species, alter native species proportion, degrade or reduce available habitat for threatened and endangered species, consume nutrients, alter fire patterns, reduce recreational opportunities, and clog waterways.

The purpose of the plan/FEIS is to (1) provide a programmatic plan to manage and control exotic plants in nine parks in south Florida and the Caribbean; (2) promote restoration of native species and habitat conditions in ecosystems that have been invaded by exotic plants; and (3) protect park resources and values from adverse effects resulting from exotic plant presence and control activities.

DATES: In December 2003, the NPS met with various Federal, territorial, State, and local government agencies to share information among agencies and elicit issues, concerns, and other relevant information to address during the planning process. Agency representatives participated in meetings in the Virgin Islands, (one on St. John and one on St. Croix), and in a meeting in West Palm Beach, Florida. A Notice of Intent to prepare an environmental impact statement (EIS) for South Florida and Caribbean parks exotic plant management was published in the Federal Register on January 22, 2004 (69 FR 3174). Public scoping open houses were held in March 2004 in Cruz Bay, St. John; Christiansted and Frederiksted, St. Croix; and Naples and Homestead, Florida. A project newsletter was also distributed and 40 letters or e-mails were received and used by the interdisciplinary planning team to refine the issues to be addressed in the plan/EIS. The Environmental Protection Agency published its notice of filing of the Draft EIS in the Federal Register on September 22, 2006 (71 FR 55463). The NPS notice of availability was published in the Federal Register on September 27, 2006 (71 FR 56549).

Following a 60-day public comment period, NPS considered carefully the agency and public comments received, and prepared the FEIS. Not sooner than 30 days from the date of publication of the Notice of Availability for the FEIS in the Federal Register by the Environmental Protection Agency the NPS will sign a Record of Decision on the Final Environmental Impact Statement/South Florida and Caribbean Parks Exotic Plant Management Plan. After the Record of Decision is signed, the NPS will publish a Notice of Availability of the Record of Decision on the Final Environmental Impact Statement/South Florida and Caribbean Parks Exotic Plant Management Plan in the Federal Register.

ADDRESSES: Electronic copies of the final document will be available online at http://parkplanning.nps.gov/EVER. To request a copy contact Sandra Hamilton, Environmental Quality Division, National Park Service, Academy Place, P.O. Box 25287, Denver, Colorado 80225, 303-969-2068. While supplies last, the document can also be picked up in person at the participating parks' headquarters: Big Cypress National Preserve, 33100 Tamiami Trail East, Ochopee, Florida 34141; Biscayne National Park, 9700 SW 328 Street, Homestead, Florida 33033; Canaveral National Seashore, 212 S. Washington Avenue, Titusville, Florida 32796; Dry Tortugas National Park 40001 State Road 9336, Homestead, Florida 33034; Everglades National Park, 40001 State Road 9336, Homestead, Florida 33034; Buck Island Reef National Monument, Danish Custom House, Kings Wharf, 2100 Church Street #100, Christiansted, St. Croix, Virgin Islands 00820; Christiansted National Historic Site; Salt River Bay National Historic Park and Ecological Preserve, and Virgin Islands National Park, 1300 Cruz Bay Creek, St. John, Virgin Islands 00830.

SUPPLEMENTARY INFORMATION: Three alternatives are identified and potential impacts analyzed in the plan/FEIS. Alternative C, New Framework for Exotic Plant Management: Increased Planning, Monitoring, and Mitigation, with an Emphasis on Active Restoration of Native Plants, is the environmentally preferable alternative and the NPS preferred alternative. Alternative C would augment the systematic approach integral to alternative B, described below, and would add an active restoration program to enhance the return of native species to treated areas in selected high-priority areas. Under Alternative C, a decision tool would be applied to determine areas that are appropriate for active restoration, which would occur in park areas that have been previously disturbed and in areas with potential threatened and endangered species habitat or sensitive vegetation communities where a more rapid recovery would be desirable. The active restoration approach for a given treatment area would be determined based on a site-specific evaluation. Other areas in the parks would recover passively. Under Alternative B, New Framework for Exotic Plant Management: Increased Planning, Monitoring, and Mitigation, the parks would apply a systematic approach that would prioritize exotic plants for treatment, monitor effects of those treatments on exotic plants and park resources, and mitigate any adverse effects to park resources, as determined through the monitoring program. Alternative B would employ an adaptive management strategy, using the results of monitoring to adjust treatment methods or mitigation methods to reach the desired future condition of treated areas in the parks. The effectiveness of efforts to control exotic plant invasion of native habitats would increase as a result of uniform recording and storage of information acquired during monitoring and of sharing that information among the nine park units. Under Alternative A, Continue Current Management, the parks would continue to manage exotic plants under the existing management framework.

The parks would continue to treat infestations of exotic plants on an ad hoc basis using a variety of physical, mechanical, chemical, and biological methods and through currently available funding sources.

Authority: The authority for publishing this notice is 40 CFR 1506.6.

FOR FURTHER INFORMATION CONTACT: Sandra Hamilton, Environmental Quality Division, National Park Service, Academy Place, P.O. Box 25287, Denver, Colorado 80225, 303-969-2068.

The responsible official for this final EIS is the Regional Director, Southeast Region, National Park Service, 100 Alabama Street, SW., 1924 Building, Atlanta, Georgia 30303.

Dated: August 16, 2010.
Gordon Wissinger,
Acting Regional Director, Southeast Region.

[FR Doc. 2010-21550 Filed 8-27-10; 8:45 am]

BILLING CODE 4310-70-P